DEPARTMENT OF COMMERCE

International Trade Administration

[C-570-917]

Laminated Woven Sacks From the People's Republic of China: Final Results of the Second Expedited Five-Year (Sunset) Review of the Countervailing Duty Order

AGENCY: Enforcement and Compliance, International Trade Administration, Department of Commerce.

SUMMARY: The Department of Commerce (Commerce) finds that revocation of the countervailing duty (CVD) order on laminated woven sacks from the People's Republic of China (China) would be likely to lead to the continuation or recurrence of net countervailable subsidies at the rates in the “Final Results of Review” section of this notice.

DATES: Applicable June 11, 2019.

FOR FURTHER INFORMATION CONTACT: Thomas Dunne or Jacqueline Arrowsmith, AD/CVD Operations, Office VII, Enforcement and Compliance, International Trade Administration, U.S. Department of Commerce, 1401 Constitution Avenue NW, Washington, DC 20230; telephone (202) 482-2328 or (202) 482-5255, respectively.

SUPPLEMENTARY INFORMATION:

Background

On August 7, 2008, Commerce published the CVD Order on laminated woven sacks from China.¹ On February 5, 2019, Commerce published the notice of initiation for the second sunset review of the CVD Order, pursuant to section 751(c) of the Tariff Act of 1930, as amended (the Act).² Subsequently, Commerce received a notice of intent to participate from the Laminated Woven Sacks Fair Trade Coalition and its individual members, Polytex Fibers Corporation and ProAmpac Holdings, Inc. (collectively, the domestic interested parties), within the deadline specified in 19 CFR 351.218(d)(1)(i).³

¹ See Laminated Woven Sacks from the People's Republic of China: Countervailing Duty Order, 73 FR 45955 (August 7, 2008) (CVD Order).

² See Initiation of Five-Year (“Sunset”) Reviews, 84 FR 1704 (February 5, 2019).

³ See Laminated Woven Sacks Fair Trade Coalition's (LWSFTC) Letter, “Five-Year (“Sunset”) Review of Countervailing Duty Order on Laminated Woven Sacks from the People's Republic of China: Domestic Interested Parties Notice of Intent to Participate,” dated February 19, 2019.

Commerce received a complete substantive response to the notice of initiation from the domestic interested parties within the 30-day deadline specified in 19 CFR 351.218(d)(3)(i).⁴ Commerce received no substantive responses from the Government of China or any respondent interested party. As a result, pursuant to 19 CFR 351.218(e)(1)(ii)(C)(2), Commerce is conducting an expedited (120-day) sunset review of the CVD Order.

⁴ See LWSFTC's Letter, “Five Year (“Sunset”) Review of Countervailing Duty Order on Laminated Woven Sacks from the People's Republic of China: Domestic Interested Parties Substantive Response,” dated March 7, 2019 (Domestic Interested Parties' March 7, 2019, Response).

Scope of the Order

The merchandise covered by the CVD Order is laminated woven sacks. A full description of the scope of the CVD Order is contained in the Issues and Decision Memorandum, which is hereby adopted by this notice.⁵

⁵ See Memorandum, “Issues and Decision Memorandum for the Final Results of the Expedited Second Sunset Review of the Countervailing Duty Order on Laminated Woven Sacks from the People's Republic of China,” dated concurrently with and adopted by this notice (Issues and Decision Memorandum).

Analysis of Comments Received

All issues raised in this sunset review are addressed in the Issues and Decision Memorandum. The issues discussed in the Issues and Decision Memorandum include the likelihood of continuation or recurrence of a countervailable subsidy and the net countervailable subsidy likely to prevail if the CVD Order were revoked. A list of topics discussed in the Issues and Decision Memorandum is attached to this notice as an Appendix. The Issues and Decision Memorandum is a public document and is on file electronically via Enforcement and Compliance's Antidumping and Countervailing Duty Centralized Electronic Service System (ACCESS). ACCESS is available to registered users at http://trade.gov/enforcement/ and in the Central Records Unit, Room B-8024, in the Herbert C. Hoover Building. In addition, a complete version of the Issues and Decision Memorandum can be accessed directly on the internet at http://enforcement.trade.gov/frn/. The signed Issues and Decision Memorandum and electronic versions of the Issues and Decision Memorandum are identical in content.

Final Results of Review

Pursuant to sections 752(b)(1) and (3) of the Act, Commerce determines that revocation of the CVD Order would be likely to lead to continuation or recurrence of countervailable subsidies at the following net countervailable subsidy rates:

Manufacturers/exporters | Net countervailable subsidy rates (percent)
Zibo Aifudi Plastic Packaging Co., Ltd | * 83.34
Han Shing Chemical Co., Ltd | * 277.54
Ningbo Yong Feng packaging Co., Ltd | * 277.54
Shandong Shouguang Jianyuan Chun Co., Ltd./Shandong Longxing Plastic Products Company Ltd | * 406.62
Shandong Qilu Plastic Fabric Group, Ltd | * 358.20
All others | * 280.65
* ad valorem.

Notification Regarding Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

Commerce is issuing and publishing these final results and this notice in accordance with sections 751(c), 752(b), and 777(i)(1) of the Act.

Dated: June 5, 2019.
Jeffrey I. Kessler,
Assistant Secretary for Enforcement and Compliance.

Appendix

List of Topics Discussed in the Decision Memorandum

I. Summary

II. Background

III. Scope of the Order

IV. Discussion of the Issues

V. Discussion of the Issues

(1) Likelihood of Continuation of a Countervailable Subsidy

(2) Net Countervailable Subsidy Likely to Prevail

(3) Nature of the Subsidy

[FR Doc. 2019-12283 Filed 6-10-19; 8:45 am]

BILLING CODE 3510-DS-P